Proclamation 10123 of November 30, 2020

World AIDS Day, 2020

By the President of the United States of America

A Proclamation

Today, our Nation joins millions across the globe in remembrance of the precious lives lost to human immunodeficiency virus (HIV) and acquired immunodeficiency syndrome (AIDS)-related illnesses, and we reaffirm our support for those living with these diseases. Thankfully, decades of remarkable advancements and improved understanding have put us within reach of ending its devastating impact. Through increased awareness, revolutionary prevention strategies, and safe and effective treatment regimens, we will soon end the AIDS epidemic once and for all.

Over the past 40 years, HIV and AIDS have infected more than 77 million people worldwide and claimed no less than 35 million lives, including those of 700,000 Americans. Currently, there are approximately 1.2 million people living in the United States with HIV, including roughly 170,000 people who have not been diagnosed. Additionally, it is all too clear that this deadly disease disproportionately affects racial and ethnic minorities.

As President, I promised to end the AIDS crisis in America within a decade, and I am proud to report that we are on track to meet that goal. In 2019, I announced Ending the HIV Epidemic: A Plan for America, a bold whole-of-society approach to eradicating this disease. Already, we have sent $227 million to cities, counties, States, local health departments, and community health centers to support and bolster their efforts. Under this plan, our Nation's scientists, researchers, and medical professionals have been able to identify where HIV is spreading most rapidly, which informs decisions about where to focus funding and provide support to public health officials who are addressing needs at a local level to eradicate AIDs. This July, as part of these efforts, the Centers for Disease Control and Prevention awarded $109 million to 32 State and local health departments to support core HIV diagnosis and prevention activities. Additionally, the Ryan White HIV/AIDS Program of the Health Resources and Services Administration (HRSA) is continuing to provide those diagnosed with access to high quality, comprehensive primary care. Under HRSA's Bureau of Primary Health Care health centers have implemented critical early detection initiatives that have produced life-saving diagnoses of Americans living with HIV, saving countless American lives.

Across many fronts, our response has been comprehensive—and it is working. Preventative measures such as Pre-Exposure Prophylaxis (PrEP) and syringe service programs are reducing the number of new HIV transmissions and, if one has already been exposed, Post-Exposure Prophylaxis (PEP) is helping prevent further spread of infection. In 2019 alone, federally funded health centers provided more than 2.7 million HIV tests to over 2.2 million patients. The Ryan White HIV/AIDS Program has proven remarkably successful at viral suppression, reducing viral loads in 87.1 percent of its clients' cases in 2018. And the National Institutes of Health continues its work to develop a vaccine.

Outside of the United States, my Administration's global response is being led by the world's most advanced health experts and diplomats through the President's Emergency Plan for AIDS Relief (PEPFAR), the most successful health initiative in American history. When first launched in 2003, there were 26.6 million Africans infected with AIDS and only 50,000 receiving lifesaving antiretroviral treatment. Today, more than 15.7 million men, women, and children in Africa are receiving these vital treatments. PEPFAR has saved over 18 million lives, prevented millions of HIV infections, and accelerated progress toward controlling the HIV/AIDS epidemic in more than 50 countries.

Through these and other initiatives we are bringing to a close a painful chapter in human history. For the past many decades, HIV and AIDS have inflicted untold suffering on millions of people both here at home and abroad. But by the end of this decade, we will have eliminated this scourge from our country and released much of the rest of the world from its deadly grip.

NOW, THEREFORE, I, DONALD J. TRUMP, President of the United States of America, by virtue of the authority vested in me by the Constitution and the laws of the United States, do hereby proclaim December 1, 2020, as World AIDS Day. I urge the Governors of the States and the Commonwealth of Puerto Rico, officials of the other Territories subject to the jurisdiction of the United States, and all Americans to join me in appropriate activities to remember those who have lost their lives to AIDS and to provide support and compassion to those living with HIV/AIDS.

IN WITNESS WHEREOF, I have hereunto set my hand this thirtieth day of November, in the year of our Lord two thousand twenty, and of the Independence of the United States of America the two hundred and forty-fifth.

[FR Doc. 2020-26793

Filed 12-2-20; 11:15 am]

Billing code 3295-F1-P